DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed collection The Remedial Education Provisions of the Fair Labor Standards Act. A copy of the proposed information collection request can be obtained by contacting the office listed below in the addresses section of this Notice.

DATES: Written comments must be submitted to the office listed in the addressee section below on or before February 14, 2003.

ADDRESSES: Ms. Patricia A. Forkel, U.S. Department of Labor, 200 Constitution Ave., NW., Room S-3201, Washington, DC 20210, telephone (202) 693-0339, fax (202) 693-1451, e-mail pforkel@fenix2.dol-esa.gov. Please use only one method of transmission for comments (mail, fax, or e-mail).

SUPPLEMENTARY INFORMATION:

I. Background

Under the Fair Labor Standards Act (FLSA), employees who lack a high school diploma or whose reading level or basic skills are at or below the eighth grade level, may be required by their employers to attend up to 10 hours per week of remedial education. Employees who are subject to the overtime provisions of the FLSA ordinarily must be paid one and one-half times their regular rate of pay for all hours worked over 40 in each workweek. The additional hours devoted to such remedial education would not have to be compensated at the same time and one-half overtime rate; however, employees must receive compensation at their regular rate of pay for time spent receiving such remedial education. Employers wishing to utilize the partial overtime exemption for such employees must record the hours of employees spent in remedial education. This information collection is currently approved for use through June 30, 2003.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department seeks the extension of approval to collect this information in order to review and determine employer compliance with the applicable section of the FLSA.

This information collection is for recordkeeping only. There is no change in the information collection request since the last OMB approval.

Type of Review: Extension.

Agency: Employment Standards Administration.

Title: The Remedial Education Provisions of the Fair Labor Standards Act.

OMB Number: 1215-0175.

Affected Public: Business or other for-profit; Not-for-profit institutions; State, Local or Tribal Government.

Total Recordkeepers: 15,000.

Frequency: Once per week for 10 weeks.

Average Time per Record: 1 minute per week for 10 weeks (10 min. per employee).

Total Burden Hours: 15,000.

Burden Cost (capital/startup): $0.

Total Burden Cost (operating/maintenance): $0.

Comments submitted in response to this notice will be summarized and/or included in the request for Office of Management and Budget approval of the information collection request; they will also become a matter of public record.

Dated: December 10, 2002.
Margaret J. Sherrill,
Chief, Branch of Management Review and Internal Control, Division of Financial Management, Offie of Management, Administration and Planning, Employment Standards Administration.

[FR Doc. 02-31524 Filed 12-13-02; 8:45 am]

BILLING CODE 4510-27-P